DEPARTMENT OF TRANSPORTATION

Federal Highway Administration

Agency Information Collection Activities: Submission for OMB Review

AGENCY: Federal Highway Administration (FHWA), DOT.

ACTION: Notice and request for comments.

SUMMARY: The FHWA has forwarded the information collection request described in this notice to the Office of Management and Budget (OMB) for review and approval. We published a Federal Register Notice with a 60-day public comment period on this information collection on September 25, 2001 (66 FR 49061). We are required to publish this notice in the Federal Register by the Paperwork Reduction Act of 1995.

DATES: Please submit comments by January 7, 2002.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

SUPPLEMENTARY INFORMATION: Title: Customer Satisfaction Surveys.

Abstract: Executive Order 12862, “Setting Customer Service Standards” requires that Federal agencies provide the highest quality service to our customers by identifying them and determining what they think about our services and products. The surveys covered in this request for a generic clearance will provide the FHWA a means to gather this data directly from our customers. The information obtained from the surveys will be used to assist in evaluating service delivery and processes. The responses to the surveys will be voluntary and will not involve information that is required by regulations. There will be no direct costs to the respondents other than their time. The FHWA plans to provide an electronic means for responding to the majority of the surveys via the World Wide Web.

Survey Frequency and Respondents: A total of 31 agency-wide customer satisfaction surveys are planned over the next 3 years. The survey frequency varies from one-time to annually. For all 31 surveys, there will be approximately 55,500 respondents, including State and local governments, highway industry organizations and the general public.

Estimated Total Annual Burden Hours: The burden hours per response will vary with each survey. A few of the surveys will require approximately 30 minutes each to complete; however, the majority of them will take from 5 to 20 minutes each. We estimate a total of 12,000 annual burden hours for all of the surveys.

FOR FURTHER INFORMATION CONTACT: Connie Yew, 202-366-1078, Department of Transportation, Federal Highway Administration, Corporate Management Service Business Unit, 400 Seventh Street, SW., Washington, DC 20590. Office hours are from 7:30 a.m. to 4:30 p.m., Monday through Friday, except Federal holidays.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's homepage at http://www.nara.gov/fedreg and the Government Printing Office's database at http://www.access.gpo.gov/nara.

Authority: The Paperwork Reduction Act of 1995; 44 U.S.C. Chapter 35, as amended; and 49 CFR 1.48.

Issued on: November 30, 2001.
James R. Kabel,
Chief, Management Programs and, Analysis Division.

[FR Doc. 01-30280 Filed 12-5-01; 8:45 am]

BILLING CODE 4910-22-P